DEPARTMENT OF STATE

[Public Notice 5097]

Shipping Coordinating Committee; Notice of Meeting

The Shipping Coordinating Committee (SHC) will conduct an open meeting at 9:30 a.m. on Monday, June 27, 2005, in Room 2415 of the United States Coast Guard Headquarters Building, 2100 2nd Street, SW., Washington, DC 20593-0001. The primary purpose of the meeting is to prepare for the 53rd Session of the International Maritime Organization (IMO) Marine Environment Protection Committee (MEPC) to be held at IMO Headquarters in London, England from July 18th to 22nd, 2005.

The primary matters to be considered include:

—Harmful aquatic organisms in ballast water;

—Recycling of ships;

—Prevention of air pollution from ships;

—Consideration and adoption of amendments to mandatory instruments;

—Interpretation and amendments of MARPOL 73/78 and related instruments;

—Implementation of the International Convention on Oil Pollution Preparedness, Response and Cooperation (OPRC) Convention and the OPRC-Hazardous Noxious Substance (OPRC-HNS) Protocol and relevant conference resolutions;

—Identification and protection of Special Areas and Particularly Sensitive Sea Areas;

—Inadequacy of reception facilities;

—Voluntary IMO Member State Audit Scheme

—Follow-up to the revised MARPOL Annex I and Annex II;

—Harmful anti-fouling systems for ships;

—Promotion of implementation and enforcement of MARPOL 73/78 and related instruments;

—Follow-up to UNCED and WSSD;

—Technical cooperation program;

—Future role of formal safety assessment and human element issues; and

—Work program of the Committee and subsidiary bodies.

Immediately following the meeting, there will be an extended technical discussion on the topic of greenhouse gases, which is part of the agenda item regarding prevention of air pollution from ships. The focus of this discussion will be on draft voluntary guidelines for developing carbon dioxide indexes for ships. These draft guidelines were developed at MEPC 52 and will be discussed at MEPC 53.

Please note that hard copies of documents associated with MEPC 53 will not be available at this meeting. Documents will be available in Adobe Acrobat format on CD-ROM. To request documents please write to the address provided below, or request documents via the following Internet link: http://www.uscg.mil/hq/gm/mso/mso4/mepc.html.

Members of the public may attend this meeting up to the seating capacity of the room. Interested persons may seek information by writing to Ensign Christina Sullivan, Commandant (G-MSO-4), U.S. Coast Guard Headquarters, 2100 Second Street, SW., Room 1601, Washington, DC 20593-0001 or by calling (202) 267-2079.

Dated: June 9, 2005.
Clay Diamond,
Executive Secretary, Shipping Coordinating Committee, Department of State.

[FR Doc. 05-11820 Filed 6-14-05; 8:45 am]

BILLING CODE 4710-07-P